DEPARTMENT OF TRANSPORTATION

National Highway Traffic Safety Administration

[Docket No. NHTSA-2021-0095; Notice 2]

Continental Tire the Americas, LLC, Grant of Petition for Decision of Inconsequential Noncompliance

AGENCY: National Highway Traffic Safety Administration (NHTSA), Department of Transportation (DOT).

ACTION: Grant of petition.

SUMMARY: Continental Tire the Americas, LLC, (CTA) has determined that certain Continental motorcycle tires do not fully comply with Federal Motor Vehicle Safety Standard (FMVSS) No. 119, New Pneumatic Tires for Motor Vehicles with a GVWR of More Than 4,536 Kilograms (10,000 Pounds), Specialty Tires, and Tires for Motorcycles. CTA filed a noncompliance report dated December 2, 2021, and subsequently petitioned NHTSA on December 22, 2021, for a decision that the subject noncompliance is inconsequential as it relates to motor vehicle safety. This notice announces the grant of CTA's petition.

FOR FURTHER INFORMATION CONTACT: Jayton Lindley, General Engineer, NHTSA, Office of Vehicle Safety Compliance, telephone (325) 655-0547.

SUPPLEMENTARY INFORMATION:

I. Overview

CTA has determined that certain Continental motorcycle tires from several different tire lines do not fully comply with the requirements of paragraph S6.5(b) of FMVSS No. 119, New Pneumatic Tires for Motor Vehicles with a GVWR of More Than 4,536 Kilograms (10,000 Pounds) (49 CFR 571.119). CTA filed a noncompliance report dated December 2, 2021, pursuant to 49 CFR part 573, Defect and Noncompliance Responsibility and Reports. CTA subsequently petitioned NHTSA on December 22, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of CTA's petition is published under 49 U.S.C. 30118 and 30120 and does not represent any Agency decision or other exercise of judgment concerning the merits of the petition.

Notice of receipt of CTA's petition was published with a 30-day public comment period, on April 13, 2022, in the Federal Register (87 FR 22022). No comments were received. To view the petition and all supporting documents log onto the Federal Docket Management System (FDMS) website at https://www.regulations.gov/. Then follow the online search instructions to locate docket number “NHTSA-2021-0095.”

II. Tires Involved

Approximately 14,198 Continental motorcycle tires, size 100/80-16 M/C 50P, manufactured between July 2, 2018, and September 24, 2020, are potentially involved.

III. Noncompliance

CTA explains the noncompliance is that the tires contain symbols in the tire identification number (TIN) that are not allowed and, therefore, do not meet the requirements of 49 CFR 574.5(f) which results in a noncompliance with paragraph S6.5(b) of FMVSS No. 119. Specifically, the sidewalls of the subject tires are marked with a TIN that may contain one of the following unauthorized symbols: G, I, O, Q, S, and Z.

IV. Rule Requirements

Paragraph S6.5(b) of FMVSS No. 119 includes the requirements relevant to this petition. Each tire must be marked on each sidewall with the TIN required by part 574. Specifically, section 574.5(f) states that the only symbols that manufacturers and retreaders are allowed to use in the tire identification number are: A, B, C, D, E, F, H, J, K, L, M, N, P, R, T, U, V, W, X, Y, 1, 2, 3, 4, 5, 6, 7, 8, 9, and 0.

V. Summary of CTA's Petition

The following views and arguments presented in this section, “V. Summary of CTA's Petition,” are the views and arguments provided by CTA. They do not reflect the views of the Agency.

CTA begins its petition by describing the subject noncompliance and contending that it is inconsequential because the subject tires can still be registered with the unauthorized symbols and can be identified in the event of a recall.

CTA explains that it uses a third-party company, Computerized Information and Management Services, Inc. (CIMS), who maintains “a database of all CTA's tire registrations for the purpose of identifying purchasers of tires in the event of a future recall.” Further, CTA states that the database can be searched for not only exact matches but also “close matching database entries,” which would mean the database can perform a search “if an `I' was misrepresented as a `1' or vice versa.”

CTA says that in the event of a recall, the subject tires can be identified in the U.S. Tire Manufacturers Association's tire recall search tool ¹ because it uses an algorithm in which the unauthorized letter can be used interchangeably with a corresponding allowed number, for example, “G or 6, I or 1, O or 0, etc.”

¹ https://recallinfo.ustires.org/.

CTA states that NHTSA has previously assigned a plant code containing an unauthorized letter to Continental Tire's location in Timisoara, Romania. In that case, CTA says the plant code contained the letter “G” which CTA believes “does not cause any issues with tire registration and would not affect the registration search in the case of a recall.” Therefore, CTA argues, that the use of the unauthorized symbols in the TIN of the subject tires will not affect tire registration or the identification of the TIN in the event of a recall.

CTA says that it has stopped the sale of the subject tires and “has initiated the process of changing tire curing molds to compliant DOT TIN's” and that “the mold change dates will be documented in the CTA specification system for future traceability.” CTA also says that it is taking action to prevent the reoccurrence of the subject noncompliance by modifying its sidewall specification system to include “a control point before a DOT TIN can be released for production.” Additionally, CTA says that it will comply with the new 13 character TIN requirement by including a 3 character assigned plant code and the 6 digit manufacturer code that will be “automatically generated by the specification system, which assures that only authorized symbols are used.”

CTA concludes its petition by stating that the subject noncompliance is inconsequential as it relates to motor vehicle safety and that its petition to be exempted from providing notification of the noncompliance, as required by 49 U.S.C. 30118, and a remedy for the noncompliance, as required by 49 U.S.C. 30120, should be granted.

VI. NHTSA's Analysis

NHTSA has evaluated the merits of the inconsequential noncompliance petition submitted by CTA and is granting their request for relief from notification and remedy based on the following:

• Operational Safety & Performance: NHTSA has not identified a manner in which the incorrect characters in the TIN will have an effect on the operational safety and performance of the affected tires.

• Traceability & Identification: NHTSA currently has no reason to believe that the registration rate of the tires will decrease due to the use of unauthorized characters. CTA demonstrated that the affected tires can be registered by using either the actual or the alternative, visually similar, characters (examples are “G” and “6”, “1” and “I”, etc.). Further, CTA demonstrated that, through the use of CIMS, registrations using a similar unauthorized symbol in lieu of a permitted symbol may be retrieved from the CIMS registration database. This will ensure that in the event of a recall, registration information for variations of the TIN numbers including both the permitted and unauthorized symbols will be included, and therefore the notification to consumers will not be diminished. Finally, NHTSA believes that the incorrect characters in the TIN will not prevent consumers from identifying the affected tires in the event of a recall.

Other Arguments: The Agency does not find an errant plant code assignment using unauthorized symbols as compelling support for this petition. Further, a previous error committed by the Agency does not negate the requirements as stated in 49 CFR 574.5 (f).

VII. NHTSA's Decision

In consideration of the foregoing, NHTSA finds that CTA has met its burden of persuasion that the subject FMVSS No. 119 noncompliance in the affected tires is inconsequential to motor vehicle safety. Accordingly, CTA's petition is hereby granted and CTA is consequently exempted from the obligation of providing notification of, and a free remedy for, that noncompliance under 49 U.S.C. 30118 and 30120.

NHTSA notes that the statutory provisions (49 U.S.C. 30118(d) and 30120(h)) that permit manufacturers to file inconsequentiality petitions, only allow NHTSA to exempt manufacturers from the duties to notify owners, purchasers, and dealers of a defect or noncompliance and to remedy the defect or noncompliance. Therefore, the granting of this petition only applies to the subject tires that CTA no longer controlled at the time it determined that the noncompliance existed. However, the granting of this petition does not relieve equipment distributors and dealers of the prohibitions on the sale, offer for sale, or introduction or delivery for introduction into interstate commerce of the noncompliant tires under their control after CTA notified them that the subject noncompliance existed.

(Authority: 49 U.S.C. 30118, 30120: delegations of authority at 49 CFR 1.95 and 501.8)

Otto G. Matheke III,
Director, Office of Vehicle Safety Compliance.

[FR Doc. 2022-23598 Filed 10-28-22; 8:45 am]

BILLING CODE 4910-59-P